DEPARTMENT OF ENERGY

Federal Energy Regulatory Commission

[Project No. 2100]

California Department of Water Resources; Notice of Posting of Privileged and Confidential Information on Elibrary

September 16, 2005.

On August 15, 2005, the California Department of Water Resources (DWR) filed with the Commission in the above-captioned proceeding a document entitled “Responses to Deficiencies, Clarifications, Additional Information Requests, and Revisions of January 2005 License Application.” Consistent with Commission regulation, this filing was provided in three separate binders: public information (in Binder #1), non-internet public (NIP) information (in Binder #2), and certain documents and information that DWR asserts to be privileged and confidential, and therefore exempt from public disclosure under the Freedom of Information Act, 5 U.S.C. 552 (in Binder #3). 18 CFR 388.112(b).

When processing DWR's filing, Commission staff inadvertently made all three binders publicly available on the eLibrary system, before the Commission rendered any decision with regard to DWR's privilege claim for the documents and information in Binder #3. Cf. 18 CFR 388.112(c). According to Commission records, all three binders were publicly available from approximately 5 pm EDT August 16, 2005, until approximately 8:30 am EDT August 17, 2005, during which time the NIP information and privileged and confidential information were accessed a total of fourteen (14) times on eLibrary.

In furtherance of the Commission's designated procedures for processing documents for which privileged treatment is sought, therefore, all entities that accessed Binder #3 from the Commission's eLibrary system are hereby requested to destroy all paper and electronic copies of any and all of the documents and information included in Binder #3.

Magalie R. Salas,
Secretary.

[FR Doc. E5-5203 Filed 9-27-05; 8:45 am]

BILLING CODE 6717-01-P